DEPARTMENT OF COMMERCE

National Oceanic and Atmospheric Administration

[RTID 0648-XW024]

Magnuson-Stevens Act Provisions; General Provisions for Domestic Fisheries; Coastal Pelagic Species Fishery; Application for Exempted Fishing Permits; California Wetfish Producers Association

AGENCY: National Marine Fisheries Service (NMFS), National Oceanic and Atmospheric Administration (NOAA), Commerce.

ACTION: Notice; request for comments.

SUMMARY: The Regional Administrator, West Coast Region, NMFS, has made a preliminary determination that an application for an Exempted Fishing Permit warrants further consideration. The application, submitted by the California Wetfish Producers Association, requests an exemption from the prohibition on directed fishing for Pacific sardine during the remainder of the 2019-2020 fishing year and the upcoming 2020-2021 fishing year. The goal of this research is to collect fishery-dependent data for potential use in the 2021 and 2022 Pacific sardine stock assessments. NMFS requests public comment on the application.

DATES: Comments must be received by May 5, 2020.

ADDRESSES: You may submit comments on this document, identified by NOAA-NMFS-2020-0060, by the following method:

• Electronic Submissions: Submit all electronic public comments via the Federal e-Rulemaking Portal. Go to www.regulations.gov/#!docketDetail;D=NOAA-NMFS-2020-0060, click the “Comment Now!” icon, complete the required fields, and enter or attach your comments. The Exempted Fishing Permit application will be available under Relevant Documents through the same link.

• Instructions: Comments must be submitted by the above method to ensure that the comments are received, documented, and considered by NMFS. Comments received after the end of the comment period may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Lynn Massey, West Coast Region, NMFS, (562) 436-2462, lynn.massey@noaa.gov.

SUPPLEMENTARY INFORMATION: This action is authorized by the Coastal Pelagic Species (CPS) Fishery Management Plan (FMP) and regulations at 50 CFR 600.745, which allow NMFS Regional Administrators to authorize exempted fishing permits (EFPs) to test fishing activities that would otherwise be prohibited.

On April 6, 2020, the California Wetfish Producers Association (CWPA) submitted an EFP application to NMFS requesting an exemption from the prohibition on directed fishing for Pacific sardine as part of an industry-based scientific collection effort. The CWPA requested to directly harvest up to 640 metric tons (mt) of Pacific sardine during the remainder of the 2019-2020 fishing year, as well as 740 mt during the upcoming 2020-2021 fishing year, which will begin on July 1, 2020. Directed fishing for Pacific sardine, with exceptions for the minor directed fisheries, the live bait fishery, and EFP activities, is currently prohibited off the U.S. West Coast (84 FR 31222; July 1, 2019) and on April 6, 2020, the Pacific Fishery Management Council voted to keep the primary directed fishery closed for the 2020-2021 season as well.

The primary directed fishery for Pacific sardine has been closed since 2015, and consequently, scientists at the Southwest Fisheries Science Center (SWFSC) have a limited amount of fishery-dependent data to use in their annual stock assessment. The goal of this EFP project is to provide additional biological data (i.e., age and length data from directed harvest) for potential use in the 2021 and 2022 stock assessments for Pacific sardine. Under this EFP project, six participating vessels would target Pacific sardine off the coasts of southern and central California with the goal of obtaining a minimum of six point sets during mid-May to June 30, 2020. During the 2020-2021 fishing year, the same six vessels would target sardine with the goal of obtaining a minimum of six point sets during July 1, 2020 to December 31, 2020, and a minimum of six point sets during January 1, 2021 to June 30, 2021.

A portion of each point set (i.e., an individual haul of fish captured with a purse seine net) would be retained for biological sampling, and the remainder would be sold by the participating fishermen and processors to offset research costs and avoid unnecessary discard. EFP landings would be offloaded at ports in Monterey/Moss Landing, California (for central California landings) or Long Beach/San Pedro, California (for southern California landings), and the portion of fish retained for biological sampling would be received by staff at the California Department of Fish and Wildlife.

NMFS does not expect any adverse biological impacts from this EFP project. Any harvest under this EFP would count against the annual catch limit (ACL) for Pacific sardine in both fishing years when EFP activities would occur. On July 1, 2019, NMFS published a final rule (84 FR 31222) to implement Pacific sardine harvest specifications for the 2019-2020 fishing year off the U.S. West Coast. This final rule included a 4,514-mt ACL and a prohibition on directed fishing for Pacific sardine with exceptions for the minor directed fisheries, the live bait fishery, and EFP activities. As of March 31, 2020, approximately 3,300 mt of the 4,514-mt ACL for the 2019-2020 fishing year remained unharvested. Based on existing and likely fishing pressure over the next three months, NMFS does not expect landings to approach the ACL. If NMFS does not issue this EFP, then the 640-mt request for EFP catch would be available for harvest by other permissible fishing activities prior to the end of the current fishing year, which ends on June 30, 2020.

After publication of this document in the Federal Register, NMFS may approve and issue permits to participating vessels after the close of the public comment period.

NMFS will consider comments submitted in deciding whether to approve the application as requested. NMFS may approve the application in its entirety or may make any alterations needed to achieve the goals of the EFP project.

Authority: 16 U.S.C. 1801 et seq.

Dated: April 14, 2020.
Hélène M.N. Scalliet,
Acting Director, Office of Sustainable Fisheries, National Marine Fisheries Service.

[FR Doc. 2020-08215 Filed 4-17-20; 8:45 am]

BILLING CODE 3510-22-P